DEPARTMENT OF HOMELAND SECURITY

Coast Guard

33 CFR Part 110

[CGD01-02-129]

RIN 1625-AA01

Anchorage Regulations: Rockland, ME

AGENCY: Coast Guard, DHS.

ACTION: Final rule.

SUMMARY: The Coast Guard hereby amends the anchorage regulations for Rockland Harbor by re-designating anchorage ground “C” as a special anchorage area and reorienting anchorage ground “A”. This action is necessary to alert mariners that vessels moored within special anchorage “C”, are not required to sound signals or display anchor lights or shapes, and provide a wider navigable channel between the two anchorages. This action is intended to increase the safety of life and property on navigable waters, improve the safety of anchored vessels in both anchorage “A” and the special anchorage area, and provide for the overall safe and efficient flow of vessel traffic and commerce.

DATES: This rule is effective September 2, 2003.

ADDRESSES: Comments and material received from the public, as well as documents indicated in this preamble as being available in the docket, are part of docket (CGD01-02-129), and are available for inspection or copying at room 628, First Coast Guard District Boston, between 8 a.m. and 3 p.m., Monday through Friday, except Federal holidays.

FOR FURTHER INFORMATION CONTACT: Mr. J. J. Mauro, Commander (oan), First Coast Guard District, 408 Atlantic Ave., Boston, MA 02110, Telephone (617) 223-8355, e-mail: jmauro@d1.uscg.mil.

SUPPLEMENTARY INFORMATION:

Regulatory Information

On April 1, 2003, we published a notice of proposed rulemaking (NPRM) entitled “Anchorage Regulations: Rockland, Maine” in the Federal Register (68 FR 15691). We received no letters commenting on the proposed rule. No public hearing was requested, and none was held.

Background and Purpose

A request was made by the City of Rockland and Hartley Marine Services, Rockland, Maine, to accommodate the increased number of vessels mooring in Penobscot Bay, Rockland Harbor, and provide for safe navigation between the anchorages within the harbor. This rule will re-designate anchorage ground “C”, identified in 33 CFR 110.132(a)(3), as a special anchorage area and reorient anchorage “A”, identified in 33 CFR 110.132(a)(1).

The Coast Guard determined that the small commercial and recreational vessels now anchoring in anchorage “C” do not have the ability to maintain anchor lights sufficient to meet anchorage ground requirements. Vessel traffic, as well as users of anchorage “C”, will transit and anchor more safely when anchorage “C” is designated a special anchorage area, limited to vessels less than 20 meters in length, since transiting vessels will neither expect sound signals nor anchor lights or shapes from all moored vessels. Establishing this special anchorage area will better meet future vessel traffic expectations of that area when it is re-designated as such and limited to vessels no greater than 20 meters in length.

In order to facilitate the safe and efficient flow of vessel traffic and commerce between anchorages “A” and the newly designated special anchorage area, the Coast Guard intends to reorient anchorage “A”. Reorienting anchorage “A” will provide a wider channel between the two above-mentioned anchorages. Additionally, a wider channel will allow safer passage for vessels anchoring in anchorage “A” and the special anchorage area as well as vessel traffic transiting via Atlantic Point.

The Coast Guard has defined the anchorage areas contained herein with the advice and consent of the Army Corps of Engineers, New England District, located at 696 Virginia Rd., Concord, MA 01742.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under regulatory policies and procedures of DHS is unnecessary.

This finding is based on the fact that this rule conforms to the changing needs of the harbor, the changing needs of recreational, fishing and commercial vessels, and to make the best use of the available navigable water. This rule is in the interest of safe navigation and protection of the Port of Rockland and the marine environment.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Public Law 104-121), we offered to assist small entities in understanding the rule so that they can better evaluate its effects on them and participate in the rulemaking process.

If this rule would affect your small business, organization, or governmental jurisdiction and you have questions concerning its provisions or options for compliance, please contact John J. Mauro at the address listed in ADDRESSES above.

Small businesses may send comments on the actions of Federal employees who enforce, or otherwise determine compliance with, Federal Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This calls for no new collection of information under the Paperwork Reduction Act of 1995 (44 U.S.C. 3501-3520). Federalism A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph 34(f), of Commandant Instruction M16475.1D, this rule is categorically excluded from further environmental documentation. A “Categorical Exclusion Determination” is available in the docket for inspection or copying where indicated under ADDRESSES. This rule fits paragraph 34(f) as it revises one anchorage ground and establishes a special anchorage area.

List of Subjects in 33 CFR Part 110

Anchorage grounds.

Regulations

For the reasons discussed in the preamble, the Coast Guard amends 33 CFR part 110 as follows:

PART 110—ANCHORAGE REGULATIONS

1. The authority citation for part 110 continues to read as follows:

Authority: 33 U.S.C. 471; 1221 through 1236, 2030, 2035 and 2071; 33 CFR 1.05-1(g), and Department of Homeland Security Delegation No. 0170.1.

2. Add § 110.4 to subpart A to read as follows:

§ 110.4 Penobscot Bay, Maine.

(a) Rockland Harbor. Beginning at a point bearing 244°, 1,715 yards, from Rockland Breakwater Light; thence 260°, 490 yards, to a point bearing 248° from Rockland Breakwater Light; thence 350°, 580 yards, to a point bearing 263° from Rockland Breakwater Light; thence 83°, 480 yards, to a point bearing 263° from Rockland Breakwater Light; and thence 169°, 550 yards, to the point of beginning. This area is limited to vessels no greater than 20 meters in length.

Note to paragraph (a): This area is primarily for use by yachts and other recreational craft. Temporary floats or buoy for marking the location of the anchor may be used. All moorings shall be so placed that no vessel, when anchored, shall at any time extend beyond the limits of the area. All anchoring in the area shall be under the supervision of the local harbormaster or such authority as may be designated by authorities of the City of Rockland, Maine. Requests for placement of mooring buoys shall be directed to the local government. Fixed mooring piles or stakes are prohibited.

(b) [Reserved].

3. In § 110.132 revise paragraph (a)(1), remove paragraph (a)(3), and revise paragraphs (b)(1) and (b)(2) to read as follows:

§ 110.132 Rockland Harbor, Maine.

(a) The anchorage grounds—(1) Anchorage A. Beginning at a point bearing 158°, 1,075 yards, from Rockland Breakwater Light; thence 252°, 2,020 yards, to a point bearing 224° from Rockland Breakwater Light; thence 345°, 740 yards, to a point bearing 242° from Rockland Breakwater Light; thence 72°, 1,300 yards, to a point bearing 222° from Rockland Breakwater Light; and thence 120°, 1,000 yards, to the point of beginning.

* * * * *

(b) The regulations. (1) Anchorages A and B are general anchorage grounds reserved for merchant vessels, commercial vessels or passenger vessels over 65 feet in length. Fixed moorings, piles or stakes are prohibited.

(2) A distance of approximately 500 yards shall be left between Anchorages A and B for vessels entering or departing from the Port of Rockland. A distance of approximately 100 yards shall be left between Anchorage A and the Special Anchorage Area for vessels entering or departing facilities in the vicinity of Atlantic Point. Any vessel anchored in these anchorages shall be capable of moving and when ordered to move by the Captain of the Port shall do so with reasonable promptness.

* * * * *

Dated: July 17, 2003.
John L. Grenier,
Captain, Coast Guard, Acting Commander, First Coast Guard District.

[FR Doc. 03-19372 Filed 7-30-03; 8:45 am]

BILLING CODE 4910-15-P